DEPARTMENT OF THE INTERIOR

National Park Service

[NPS-NERO-CAJO-STSP-14078; PPNECAJO00, PPMPSPD1Z.YM0000]

Notice of Joint Meeting for Captain John Smith Chesapeake National Historic Trail Advisory Council and Star-Spangled Banner National Historic Trail Advisory Council

AGENCY: National Park Service, Interior.

ACTION: Notice of meeting.

SUMMARY: As required by the Federal Advisory Committee Act, the National Park Service (NPS) is hereby giving notice that the Advisory Councils for the Captain John Smith Chesapeake National Historic Trail and the Star-Spangled Banner National Historic Trail will hold a joint meeting. Designated through amendments to the National Trails System Act (16 U.S.C. 1241 to 1251, as amended), the Captain John Smith Chesapeake National Historic Trail consists of “a series of water routes extending approximately 3,000 miles along the Chesapeake Bay and the tributaries of the Chesapeake Bay in the States of Virginia, Maryland, Delaware, and in the District of Columbia,” tracing the 1607-1609 voyages of Captain John Smith to chart the land and waterways of the Chesapeake Bay. The Star-Spangled Banner National Historic Trail consists of “water and overland routes totaling approximately 290 miles, extending from Tangier Island, Virginia, through southern Maryland, the District of Columbia, and northern Virginia, in the Chesapeake Bay, Patuxent River, Potomac River, and north to the Patapsco River, and Baltimore, Maryland, commemorating the Chesapeake Campaign of the War of 1812 (including the British invasion of Washington, District of Columbia, and its associated feints, and the Battle of Baltimore in summer 1814).”

This meeting is open to the public. Preregistration is required for both public attendance and comment. Any individual who wishes to attend the meeting, participate in, and/or file a comment for the public comment session should register via email to Christine_Lucero@nps.gov or telephone (757) 258-8914. For those wishing to make comments, please provide a written summary of your comments prior to the meeting. The Designated Federal Official for the Captain John Smith Chesapeake National Historic Trail Advisory Council is Jonathan Doherty, Acting Superintendent, telephone (410) 260-2477. The Designated Federal Official for the Star-Spangled Banner National Historic Trail Advisory Council is Suzanne Copping, Program Manager, telephone (410) 260-2476.

DATES: The Captain John Smith Chesapeake National Historic Trail Advisory Council and the Star-Spangled Banner National Historic Trail Advisory Council will meet from 10:00 a.m. to 4:00 p.m. on Monday, October 7, 2013 (EASTERN).

ADDRESSES: The meeting will be held in the Board Room at the American Institute of Architects, 1735 New York Avenue NW., Washington, DC 20006.

FOR FURTHER INFORMATION CONTACT: Christine Lucero, Partnership Coordinator, telephone (757) 258-8914 or email Christine_Lucero@nps.gov.

SUPPLEMENTARY INFORMATION: Under section 10(a)(2) of the Federal Advisory Committee Act (5 U.S.C. App.), this notice announces a joint meeting of the Captain John Smith Chesapeake National Historic Trail Advisory Council and the Star-Spangled Banner National Historic Trail Advisory Council for the purpose of discussing segment planning along the Potomac River and to update the Councils on implementation projects.

Comments will be taken for 30 minutes at the end of the meeting (from 3:30 p.m. to 4:00 p.m.). Before including your address, telephone number, email address, or other personal indentifying information in your comment, you should be aware that your entire comment—including your personal identifying information—may be made publicly available at any time. While you can ask us in your comment to withhold your personal identifying information from public review, we cannot guarantee that we will be able to do so. All comments will be made part of the public record and will be electronically distributed to all Council members.

Alma Ripps,
Chief, Office of Policy.

[FR Doc. 2013-23436 Filed 9-25-13; 8:45 am]

BILLING CODE 4310-WV-P